NATIONAL ARCHIVES AND RECORDS ADMINISTRATION

[NARA-2018-016]

Agency Information Collection Activities: Submission for OMB Review; Comment Request

AGENCY: National Archives and Records Administration (NARA).

ACTION: Notice.

SUMMARY: NARA announces that we have submitted to OMB for renewed approval under the Paperwork Reduction Act our information collection on researcher applications, and we invite you to comment on the proposed information collection.

DATES: OMB must receive written comments at the address below on or before February 20, 2018.

ADDRESSES: Send comments to Mr. Nicholas A. Fraser by mail to Office of Management and Budget; New Executive Office Building; Washington, DC 20503, by fax to 202-395-5167, or by email to Nicholas_A._Fraser@omb.eop.gov.

FOR FURTHER INFORMATION CONTACT: To request additional information or copies of the proposed information collection and supporting statement, please contact Tamee Fechhelm by phone at 301-837-1694 or by fax at 301-837-0319.

SUPPLEMENTARY INFORMATION: Pursuant to the Paperwork Reduction Act of 1995 (Pub. L. 104-13), we invite comments on proposed information collections. We published a notice of proposed collection for this information collection on October 27, 2017 (82 FR 49857), and we received no comments. We have therefore submitted the described information collection to OMB for approval.

In response to this notice, comments and suggestions should address one or more of the following points: (a) Whether the proposed information collection is necessary for NARA to properly perform its functions; (b) the accuracy of our estimate of the information collection's burden on respondents; (c) ways to enhance the quality, utility, and clarity of the information we propose to collect; (d) ways to minimize the burden on respondents of collecting the information, including through the use of automated collection techniques or other forms of information technology; and (e) whether the collection affects small businesses. In this notice, NARA solicits comments concerning the following information collection:

Title: Researcher Application.

OMB number: 3095-0016.

Agency form number: NA Form 14003.

Type of review: Regular.

Affected public: Individuals or households, business or other for-profit, not-for-profit institutions, Federal, state, local or tribal government.

Estimated number of respondents: 19,183.

Estimated time per response: 8 minutes.

Frequency of response: On occasion.

Estimated total annual burden hours: 2,552 hours.

Abstract: The information collection is prescribed by 36 CFR 1254.8. The collection is an application for a research card. Respondents are individuals who wish to use original archival records in a NARA facility and we request their name, address, contact information, and information about the research purpose and the records they wish to access. NARA uses the information to screen individuals, to identify which types of records they should use, and to allow further contact.

Swarnali Haldar,
Executive for Information Services/CIO.

[FR Doc. 2018-00790 Filed 1-17-18; 8:45 am]

BILLING CODE 7515-01-P